DEPARTMENT OF HEALTH AND HUMAN SERVICES

Centers for Disease Control and Prevention

Interagency Committee on Smoking and Health (ICSH)

AGENCY: Centers for Disease Control and Prevention (CDC), Department of Health and Human Services (HHS).

ACTION: Notice of meeting.

SUMMARY: In accordance with the Federal Advisory Committee Act, the Centers for Disease Control and Prevention (CDC), announces the following meeting for the Interagency Committee on Smoking and Health (ICSH). This meeting is open to the public; however, visitors must be processed in accordance with established federal policies and procedures. For foreign nationals or non-U.S. citizens, pre-approval is required (please contact Monica Swann, 202-245-0552, zqe0@cdc.gov at least 10 days in advance for requirements). All visitors are required to present a valid form of picture identification issued by a state, federal or international government. As required by the Federal Property Management Regulations, Title 41, Code of Federal Regulation, Subpart 101-20.301, all persons entering in or on Federal controlled property and their packages, briefcases, and other containers in their immediate possession are subject to being x-rayed and inspected. Federal law prohibits the knowing possession or the causing to be present of firearms, explosives and other dangerous weapons and illegal substances. The meeting room accommodates approximately 135 people and there are 50 lines/ports available. The public is also welcome to listen to the meeting by dialing:

Toll Free Phone: (888) 790-1712 Participant Passcode: 9556145. Participants will be able participate for the visual portion of the meeting by the following link: https://www.hhs.gov/live/index.html.

DATES: The meeting will be held on September 9, 2019, 9:00 a.m. to 4:00 p.m., EDT.

ADDRESSES: U.S. Department of Health and Human Services, Hubert H. Humphrey Building, Room 800, 200 Independence Avenue SW, Washington, DC 20201, Telephone: (202)775-0800.

FOR FURTHER INFORMATION CONTACT: Simon McNabb, Designated Federal Officer, Interagency Committee on Smoking and Health, National Center for Chronic Disease Prevention and Health Promotion, Centers for Disease Control and Prevention, 395 E Street SW, Washington, DC 20024, telephone (202) 245-0550; email bol1@cdc.gov.

SUPPLEMENTARY INFORMATION:

Purpose: The Interagency Committee on Smoking and Health shall provide advice and guidance to the Secretary, Department of Health and Human Services (HHS), regarding: (a) Coordination of research, educational programs, and other activities within the Department that relate to the effect of smoking on human health and on coordination of these activities, with similar activities of other Federal and private agencies; and (b) establishment and maintenance of liaisons with appropriate private entities, other Federal agencies, and State and local public agencies, regarding activities relating to the effect of cigarette smoking on human health.

Matters To Be Considered: The agenda will include discussions on “Empowering Youth and Youth Influencers to Prevent the Use of Emerging Tobacco Products” and the objective of the meeting is Identify federal actions to empower youth, parents, educators, health care professionals, and others who influence youth and young adults to prevent the initiation and use of e-cigarettes and other emerging tobacco products. Requests to make oral presentations should be submitted in writing to the contact person listed. All requests must contain the name, address, telephone number, and organizational affiliation of the presenter. Agenda items are subject to change as priorities dictate.

The Chief Operating Officer, Centers for Disease Control and Prevention, has been delegated the authority to sign Federal Register notices pertaining to announcements of meetings and other committee management activities, for both the Centers for Disease Control and Prevention and the Agency for Toxic Substances and Disease Registry.

Sherri Berger,
Chief Operating Officer, Centers for Disease Control and Prevention.

[FR Doc. 2019-16536 Filed 8-1-19; 8:45 am]

BILLING CODE 4163-18-P